DEPARTMENT OF COMMERCE

International Trade Administration

[A-821-814]

Notice of Amended Preliminary Determination of Sales at Less Than Fair Value: Structural Steel Beams From the Russian Federation

AGENCY: Import Administration, International Trade Administration, Department of Commerce.

ACTION: Notice of amended preliminary antidumping duty determination of sales at less than fair value: structural steel beams from the Russian Federation.

EFFECTIVE DATE: January 31, 2002.

FOR FURTHER INFORMATION CONTACT: Hermes Pinilla or Richard Rimlinger, Import Administration, International Trade Administration, U.S. Department of Commerce, 14th Street and Constitution Avenue, NW., Washington, DC 20230; telephone: (202) 482-3477 or (202) 482-4477, respectively.

The Applicable Statute and Regulations

Unless otherwise indicated, all citations to the statute are references to the provisions effective January 1, 1995, the effective date of the amendments made to the Tariff Act of 1930 (the Act) by the Uruguay Round Agreements Act (URTAA). In addition, unless otherwise indicated, all citations to the Department of Commerce's (the Department's) regulations are to the provisions codified at 19 CFR part 351 (April 2001).

Significant Ministerial Error

The Department is amending the preliminary determination of sales at less than fair value in the antidumping duty investigation of structural steel beams from the Russian Federation to reflect the correction of significant ministerial error made in the margin calculations regarding Nizhny Tagil Iron and Steel Works (Tagil), pursuant to 19 CFR 341.224(g)(1) and (g)(2). A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determinations or (2) a difference between a weighted-average dumping margin of zero or de minimis and a weighted average dumping margin of greater than de minimis or vice versa. See 19 CFR 351.224(g). As a result of this amended preliminary determination, we have revised the antidumping rate for Tagil.

Scope of Investigation

The scope of this investigation covers doubly-symmetric shapes, whether hot- or cold- rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors or attachments to I-sections, H-sections, or pilings; however, if the only additional weldment, connector or attachment on the beam is a shipping brace attached to maintain stability during transportation, the beam is not removed from the scope definition by reason of such additional weldment, connector or attachment.

The merchandise subject to this investigation is classified in the Harmonized Tariff Schedule of the United States (“HTSUS”) at subheadings 7216.32.0000, 7216.33.0030, 7216.33.0060, 7216.33.0090, 7216.50.0000, 7216.61.0000, 7216.69.0000, 7216.91.0000, 7216,99.0000, 7228.70.3040, and 7228.70.6000. Although the HTSUS subheadings are provided for convenience and customs purposes, the written description of the merchandise under investigation is dispositive.

Period of Investigation

The period of investigation (POI) is October 1, 2000, through March 31, 2001.

Ministerial-Error Allegation

On December 19, 2001, the Department issued its affirmative preliminary determination in this proceeding. See Notice of Preliminary Determination of Sales at Less Than Fair Value and Postponement of Final Determination: Structural Steel Beams from the Russian Federation, 66 FR 67197 (December 28, 2001) (Preliminary Determination.

On January 7, 2002, the Department received a timely allegation of a ministerial error in the Preliminary Determination from Tagil. Tagil alleged that because it reported its recovered by-products, scrap, and wastes values as negative values, the Department actually added these values to Tagil's factors of production in the computer program when it attempted to credit them from Tagil's factors of production. Tagil argues that the Department should revise its computer program and add these values to its factors of production so it can properly credit the recovered by-products, scrap, and wastes values. See letter from Tagil alleging a ministerial error in the Preliminary Determination (January 7, 2002).

On January 9, 2002, the Department received a timely allegation of ministerial errors in the Preliminary Determination from the petitioners. The petitioners alleged two ministerial errors: (1) The Department used the wrong numerator or denominator in calculating the POI inflator for scrap value, and (2) the Department did not include the amount for depreciation in the computer program. According to the petitioners, the Department noted in its preliminary results, that it used a depreciation expense ratio of 11.86 percent in its calculations. The petitioners allege, however, that the Department did not include the depreciation expense ratio in the computer program when calculating normal value. See letter from the petitioners alleging ministerial errors in the Preliminary Determination (January 9, 2002).

On January 14, 2002, we received a timely submission from Tagil rebutting the petitioners assertion that the Department's miscalculation of scrap value is a ministerial error as defined in section 351.224(f) of the Department's regulations. Tagil contends that according to section 351.224(f) of the Department's regulations, a ministerial error is limited to an “error in addition, subtraction, or other arithmetic function, clerical error resulting from inaccurate copying, duplication, or the like, and any other similar type of unintentional error which the Secretary considers ministerial.” Tagil argues further that the petitioners have offered no basis for their proposed revised Polish inflation rate calculation and that the Department's regulations do not permit the submission of new factual information by parties to amend the preliminary results. Therefore, Tagil requests that the Department reject the petitioners' proposed inflation calculation revision.

We have reviewed our preliminary calculations and agree that the error which Tagil alleged is ministerial within the meaning of 19 CFR 351.224(f) because we unintentionally added Tagil's by-products, scrap, and wastes values to its factors of production when we intended to credit such values from Tagil's factors of production. We also agree that the errors which the petitioners alleged are ministerial errors within the meaning of 19 CFR 351.224(f) because we inadvertently did not include the amount for depreciation in our computer program calculation of normal value and we also inflated the scrap value using an incorrect average consumer price index figure for the POI. Furthermore, we determine these are ministerial errors which rise to the level of “significant errors” pursuant to 19 CFR 351.224(g)(1) and (g)(2), because together these ministerial errors result in a change of at least five absolute percentage points in, and not less than 25 percent of, the weighted-average dumping margin calculated in the original (erroneous) preliminary determination. Therefore, we are amending the Preliminary Determination to reflect the correction of these significant ministerial errors made in the margin calculations for Tagil in that determination, pursuant to 19 CFR 351.224(e). See Tagil's Amended Preliminary Calculation Memorandum dated January 28, 2002.

Amended Preliminary Determination

As a result of our correction of the ministerial error, we have determined that the following dumping margin apply. In accordance with section 733(d)(2) of the Act, we are directing the Customs Service to suspend liquidation of all imports of subject merchandise from the Russian Federation, that are entered, or withdrawn from warehouse, for consumption on or after the date of publication of this notice in the Federal Register. We will instruct the Customs Service to require a cash deposit or the posting of a bond equal to the weighted-average amount as indicated in the chart below. This suspension-of-liquidation instructions will remain in effect until further notice.

Exporter/manufacturer | Weighted-average percentage margin
Tagil | 108.37
Russia-wide rate | 108.37

Because Tagil is the sole respondent in this investigation and the sole Russian producer or exporter with sales or shipments of subject merchandise to the United States during the POI, the recalculated margin for Tagil also applies to the Russia-wide rate. As a result of our amendment, the Russia-wide rate has also been amended, and applies to all entries of the subject merchandise except for entries from Tagil.

International Trade Commission Notification

In accordance with section 733(f) of the Act, we have notified the ITC of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Section 774 of the Act provides that the Department will hold a public hearing to afford interested parties an opportunity to comment on arguments raised in case or rebuttal briefs, provided that such a hearing is requested by an interested party. If a request for a hearing is made in this investigation, the hearing will tentatively be held two days after the rebuttal-brief deadline date at the U.S. Department of Commerce, 14th Street and Constitution Avenue, NW., Washington, DC 20230. Parties should confirm by telephone the time, date, and place of the hearing 48 hours before the scheduled time.

Interested parties who wish to request a hearing, or to participate if one is requested, must submit a written request to the Assistant Secretary for Import Administration, U.S. Department of Commerce, Room 1870, within 30 days of the publication of this notice. Requests should contain: (1) The party's name, address, and telephone number; (2) the number of participants; and (3) a list of the issues to be discussed. Oral presentations will be limited to issues raised in the briefs.

We will make our final determination no later than May 13, 2001.

This determination is issued and published in accordance with sections 733(f) and 777(i)(1) of the Act and 19 CFR 351.224(e).

Dated: January 24, 2002.
Faryar Shirzad,
Assistant Secretary for Import Administration.

[FR Doc. 02-2414 Filed 1-30-02; 8:45 am]

BILLING CODE 3510-DS-M